DEPARTMENT OF TRANSPORTATION

Federal Aviation Administration

[Summary Notice No. PE-2001-83]

Petitions for Exemption; Summary of Dispositions of Petitions Issued

AGENCY: Federal Aviation Administration (FAA), DOT.

ACTION: Notice of Dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on October 17, 2001.
Donald P. Byrne,
Assistant Chief Counsel for Regulations.

Dispositions of Petitions

Docket No.: FAA-2001-10446 (previously Docket No. 29118).

Petitioner: Homestead Helicopters, Inc.

Section of 14 CFR Affected: 14 CFR 135.143(c)(2).

Description of Relief Sought/Disposition: To permit Homestead to operate certain aircraft under part 135 without a TSO-C112 (Mode S) transponder installed in those aircraft.

Grant, 10/05/2001, Exemption No. 6733B.

Docket No.: FAA-2001-10414 (previously Docket No. 29846).

Petitioner: Air Cargo Carriers, Inc.

Section of 14 CFR Affected: 14 CFR 135.143(c)(2).

Description of Relief Sought/Disposition: To permit Air Cargo to operate certain aircraft under part 135 without a TSO-C112 (Mode S) transponder installed in those aircraft.

Grant, 10/05/2001, Exemption No. 7124A.

Docket No.: FAA-2001-10364 (previously Docket No. 29093).

Petitioner: Grand Aire Express, Inc.

Section of 14 CFR Affected: 14 CFR 135.143(c)(2).

Description of Relief Sought/Disposition: To permit GAE to operate certain aircraft under part 135 without a TSO-C112 (Mode S) transponder installed in the aircraft.

Grant, 10/04/2001, Exemption No. 6723B.

Docket No.: FAA-2001-10267.

Petitioner: Carver Aero, Inc.

Section of 14 CFR Affected: 14 CFR 135.143(c)(2).

Description of Relief Sought/Disposition: To permit Carver to operate certain aircraft under part 135 without a TSO-C112 (Mode S) transponder installed in the aircraft.

Grant, 10/04/2001, Exemption No. 6229C.

Docket No.: FAA-2001-10262 (previously Docket No. 27052).

Petitioner: Petroleum Helicopters, Inc.

Section of 14 CFR Affected: 14 CFR 135.143(c).

Description of Relief Sought/Disposition: To permit PHI to operate certain Bell Model 206L-1 helicopters under part 135 without a TSO-C112 (Mode S) transponder installed on each helicopter.

Grant, 10/04/2001, Exemption No. 5586D.

Docket No.: FAA-2001-10265 (previously Docket No. 29076).

Petitioner: RR Investments, Inc., dba Million Air Dallas.

Section of 14 CFR Affected: 14 CFR 135.143(c)(2).

Description of Relief Sought/Disposition: To permit Million Air Dallas to operate certain aircraft under part 135 without a TSO-C112 (Mode S) transponder installed in the aircraft.

Grant, 10/04/2001, Exemption No. 6718B.

Docket No.: FAA-2001-10606 (previously Docket No. 29810).

Petitioner: IHC Health Services, Inc., dba IHC Life Flight of Salt Lake City, UT.

Section of 14 CFR Affected: 14 CFR 135.143(c)(2).

Description of Relief Sought/Disposition: To permit IHC to operate certain aircraft under part 135 without a TSO-C112 (Mode S) transponder installed in the aircraft.

Grant, 10/09/2001, Exemption No. 7079A.

[FR Doc. 01-26663 Filed 10-22-01; 8:45 am]

BILLING CODE 4910-13-M